SECURITIES AND EXCHANGE COMMISSION

[Release No. 34-56304; File No. SR-CTA-2007-01]

Consolidated Tape Association; Order Approving the Ninth Charges Amendment to the Second Restatement of the Consolidated Tape Association Plan

August 22, 2007.

I. Introduction

On July 20, 2007, the Consolidated Tape Association (“CTA”) Plan Participants (“Participants”) ¹ filed with the Securities and Exchange Commission (“SEC” or “Commission”) pursuant to Section 11A of the Securities Exchange Act of 1934 (“Act”),² and Rule 608 thereunder,³ a proposal to amend the Second Restatement of the CTA Plan (the “Plan”) ⁴ to impose a limit on the maximum amount that any entity is required to pay for any calendar month's charge for broadcast, cable or satellite television distribution of a Network A ticker. The proposed Plan amendment was published for comment in the Federal Register on August 1, 2007.⁵ No comment letters were received in response to the Notice. This order approves the proposed Plan amendment.

¹ Each Participant executed the proposed amendment. The Participants are the American Stock Exchange LLC; Boston Stock Exchange, Inc.; Chicago Board Options Exchange, Inc.; Chicago Stock Exchange, Inc.; International Securities Exchange LLC; The NASDAQ Stock Market LLC; National Association of Securities Dealers, Inc.; National Stock Exchange, Inc.; New York Stock Exchange LLC; NYSE Arca, Inc.; and Philadelphia Stock Exchange, Inc.

² 15 U.S.C. 78k-1.

³ 17 CFR 242.608.

⁴ The proposal was originally filed on June 19, 2007. However, it was refiled on July 20, 2007, to reflect technical revisions made in response to the Commission's staff comments.

⁵ See Securities Exchange Act Release No. 56134 (July 25, 2007), 72 FR 42139 (“Notice”).

II. Description of the Proposal

The Plan currently imposes a charge of $2.00 for every 1,000 households reached on broadcast, cable and satellite television distribution of a Network A ticker (the “Broadcast Charge”). A minimum monthly vendor payment of $2,000 applies. CTA permits prorating for those who broadcast the data for less than the entire business day, based upon the number of minutes that the vendor displays the real-time ticker, divided by the number of minutes the primary market is open for trading (currently 390 minutes).

CTA proposes to cap the Broadcast Charge by providing that no entity is required to pay more than the “Television Ticker Maximum” for any calendar month. For months falling in calendar year 2007, the Participants propose that the monthly “Television Ticker Maximum” shall be $150,000. For each subsequent calendar year, the monthly Television Ticker Maximum would increase by the “Annual Increase Amount.” ⁶ The CTA Participants propose to apply the monthly maximum amount that any entity is required to pay for any calendar month's Broadcast Charge retroactively to May 1, 2007.

⁶ The “Annual Increase Amount” is an amount equal to the percentage increase in the annual composite share volume for the preceding calendar year, subject to a maximum annual increase of five percent. The “Annual Increase Amount” is the same adjustment factor that the Network A rate schedule has long applied to the monthly broker-dealer enterprise fee.

III. Discussion

The Commission finds that the proposed CTA Plan amendment is consistent with the Act and the rules and regulations thereunder.⁷ Specifically, the Commission finds that the amendment is consistent with Rule 608(b)(2) ⁸ of the Act in that it is necessary for the protection of investors, the maintenance of fair and orderly markets, and to remove impediments to a national market system. The Commission also finds that the proposed cap on Broadcast Charges is fair and reasonable and provides for an equitable allocation of dues, fees, and other charges among vendors, data recipients and other persons using CTA Network A facilities.

⁷ The Commission has considered the proposed amendment's impact on efficiency, competition, and capital formation. 15 U.S.C. 78c(f).

⁸ 17 CFR 242.608 (b)(2).

The proposed amendment would reduce the amount of fees paid by some entities that broadcast data to customers and result in a reduction of costs for investors. Thus, the proposed amendment is consistent with, and would further, one of the principal objectives for the national market system set forth in Section 11A(a)(1)(C)(iii) ⁹ of the Act—increasing the availability of market information to broker-dealers and investors.

⁹ 15 U.S.C. 78k-1(a)(1)(C)(iii).

IV. Conclusion

It is therefore ordered, pursuant to Section 11A of the Act,¹⁰ and the rules thereunder, that the proposed amendment to the CTA Plan (SR-CTA-2007-01) is approved.

¹⁰ 15 U.S.C. 78k-1.

For the Commission, by the Division of Market Regulation, pursuant to delegated authority.¹¹
¹¹ 17 CFR 200.30-3(a)(27).
Florence E. Harmon,
Deputy Secretary.

[FR Doc. E7-17080 Filed 8-28-07; 8:45 am]

BILLING CODE 8010-01-P